DEPARTMENT OF TRANSPORTATION

Federal Highway Administration

Environmental Impact Statement: San Bernardino County, CA

AGENCY: Federal Highway Administration (FHWA), DOT.

ACTION: Notice of Intent.

SUMMARY: The FHWA is issuing this notice to advise the public of its intent to prepare an Environmental Impact Statement (EIS) for the proposed widening and realignment of State Route 58 (SR-58) Kramer Junction Expressway from two to four lanes located between the Kern/San Bernardino County line and a point 12.9 miles east on SR-58 in San Bernardino County, California. This will be a gap closure project.

FOR FURTHER INFORMATION CONTACT: Tay Dam, Senior Project Development Engineer, Federal Highway Administration, 888 South Figueroa, Suite 1850, Los Angeles, CA 90017. Telephone: (213) 202-3954. Marie Petry, California Department of Transportation District 8, 464 W. Fourth Street, San Bernardino, CA 92401. Telephone: (909) 383-6379.

SUPPLEMENTARY INFORMATION: The FHWA, in cooperation with the California Department of Transportation, will prepare an EIS for the proposed widening and realignment of SR-58 Kramer Junction Expressway in San Bernardino County, California. This 13-mile long project would take place entirely within San Bernardino County and is centered on the Kramer Junction where SR-58 intersects with US-395 west of the City of Barstow. This section of SR-58 is currently a nonstandard two-lane highway between a four-lane freeway to the west and a four-lane expressway to the east. The proposed project would close this gap. The existing two-lane segment includes an at-grade signalized intersection at SR-58/US-395 (Kramer Junction), an overhead crossing of Burlington Northern Santa Fe (BNSF) railroad west of that intersection, and numerous uncontrolled at-grade driveway and street access points. There is also an at-grade railroad crossing on US-395 north of the SR-58/US-395 intersection that slows traffic and contributes to accidents when traffic backs up during train crossings. SR-58 is a major east-west transportation corridor with a high percentage of truck traffic transporting goods in and out of the state. The purpose of this project is to provide for increased separation of slow moving vehicles, to separate local and regional traffic, to reduce accidents, and to eliminate the convergence of SR-58 and US-395 traffic. The project would also provide congestion relief and improve traffic operations and access to local services.

A preferred alternative has not been selected at this point. One No Build (Alternative A) and three Build Alternatives (Alternatives B, C, and D) will be addressed in the EIS document. All three proposed Build Alternatives would increase capacity and be reclassified from a conventional highway to an expressway. As proposed, Alternative B would be a realignment north of the existing highway. Alternative C would be generally along the existing highway alignment, and Alternative D would be a realignment south of the existing highway. Furthermore, construction of a new freeway-to-freeway interchange where SR-58 intersects with US-395 is proposed for Alternatives B, C, and D. This new interchange would have to span the existing at-grade railroad under Alternatives B and C, but this would not be necessary under Alternative D because the new interchange is far enough south of the railroad. In addition, Alternatives B and D would include a second grade separation (overhead) structure to span the railroad further east and west, respectively, of the proposed SR-58/US-395 interchange.

The alternatives described above will be further refined through efforts conducted under the National Environmental Policy Act (40 CFR parts 1500-1508, and 23 CFR part 771), the 1990 Clear Air Act Amendments, section 404 of the Clean Water Act, Executive Order 12898 regarding environmental justice, the National Historic Preservation Act, the Endangered Species Act, the section 4(f) of the U.S. Department of Transportation Act, and other federal environmental protection laws, regulations, policies, and executive orders. The EIS will incorporate comments from the public scoping process as well as analysis in technical studies. Other alternatives suggested during scoping process would be considered during the development of the EIS. The EIS will consider any additional reasonable alternatives identified during scoping process. Letters describing the proposed action and soliciting comments will be sent to appropriate Federal, State, regional and local agencies, and to private organizations and citizens who previously have expressed, or are known to have, an interest in this project. Location and details of the public scoping meeting for the proposed project will be advertised in local newspapers and other media and will be hosted by the California Department of Transportation, District 8.

(Catalog of Federal Domestic Assistance Program Number 20.205, Highway Research, Planning and Construction. The regulations implementing Executive Order 12372 regarding intergovernmental consultation Federal programs and activities apply to this program.)

Issued On: May 2, 2007.
Maiser Khaled,
Director, Project Development & Environment, California Division, Federal Highway Administration.

[FR Doc. E7-8940 Filed 5-9-07; 8:45 am]

BILLING CODE 4910-22-P